DEPARTMENT OF COMMERCE

National Oceanic and Atmospheric Administration

RIN 0648-XD839

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Snapper Grouper Advisory Panel (AP) in North Charleston, SC. The meeting is open to the public.

DATES: The meeting will be held from 1:30 p.m. until 5 p.m. on Monday, April 13, 2015 and from 9 a.m. until 5 p.m. on Tuesday, April 14, 2015. A workshop on proposed Spawning Special Management Zones will be held in conjunction with the Snapper Grouper AP meeting on Monday, April 13, 2015, beginning at 5:30 p.m.

ADDRESSES: Meeting address: The meeting will be held at the Hilton Garden Inn, 5265 International Blvd., N. Charleston, SC 29418; telephone: (843) 308-9330.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; telephone: (843) 571-4366 or toll free: (866) SAFMC-10; fax: (843) 769-4520; email: kim.iverson@safmc.net.

SUPPLEMENTARY INFORMATION: The Snapper Grouper Advisory Panel will receive an update on the status of various amendments to the Snapper Grouper Fishery Management Plan (FMP) and other amendments affecting the snapper grouper fishery. AP members will receive overviews and provide recommendations on the following amendments to the Snapper Grouper FMP: Regulatory Amendment 16 with options to modify the current seasonal closure for the commercial black sea bass pot fishery; Amendment 37 addressing management measures for multiple species; Regulatory Amendment 23 addressing measures for golden tilefish; the development of a Joint South Atlantic and Gulf of Mexico Amendment on South Florida Issues (yellowtail snapper, mutton snapper and black grouper); and Amendment 36 to establish Spawning Special Management Zones (SMZs). The AP will provide recommendations as appropriate. The AP will also review the draft System Management Plan for Marine Protected Areas (MPAs), Electronic Technology Plan, and the Joint South Atlantic and Gulf of Mexico Charterboat Electronic Reporting Amendment and provide recommendations as appropriate. The AP will receive updates on blueline tilefish management measures, the Council's Vision Blueprint for the Snapper Grouper Fishery, and address other business as necessary. A workshop to address proposed Spawning Special Management Zones through Amendment 36 to the Snapper Grouper Fishery Management Plan will also be held in conjunction with the AP meeting.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for auxiliary aids should be directed to the Council office (see ADDRESSES) 3 days prior to the meeting.

Note: The times and sequence specified in this agenda are subject to change.

Dated: March 20, 2015.
Tracey L. Thompson,
Acting Deputy Director, Office of Sustainable Fisheries, National Marine Fisheries Service.

[FR Doc. 2015-06824 Filed 3-24-15; 8:45 am]

BILLING CODE 3510-22-P